DEPARTMENT OF TRANSPORTATION

Federal Aviation Administration

14 CFR Part 71

[Docket No. FAA-2003-15461; Airspace Docket No. 03-ACE-59]

Modification of Class E Airspace; Beatrice, NE

AGENCY: Federal Aviation Administration (FAA), DOT.

ACTION: Direct final rule; request for comments; correction.

SUMMARY: This action corrects a direct final rule; request for comments that was published in the Federal Register on Thursday, July 31, 2003, (68 FR 44875) [FR Doc. 03-19408]. It corrects an error in an extension to the Beatrice, NE Class E airspace area and its legal description.

DATES: This direct final rule is effective on 0901 UTC, October 30, 2003.

FOR FURTHER INFORMATION CONTACT: Brenda Mumper, Air Traffic Division, Airspace Branch, ACE-520A, DOT Municipal Headquarters Building, Federal Aviation Administration, 901 Locust, Kansas City, MO 64106; telephone: (816) 329-2524.

SUPPLEMENTARY INFORMATION:

History

Federal Register Document 03-19408, published on Thursday, July 31, 2003, (68 FR 44875) modified Class E airspace at Beatrice, NE. The modification was to correct discrepancies in the legal description of the airspace area, to expand and redefine its dimensions in order to provide appropriate protection for aircraft executing Instrument Approach Procedures to Beatrice Municipal Airport and to bring the legal description into compliance with FAA Order 7400.2E, Procedures for Handling Airspace Matters. However, the dimensions of the southern extension of this airspace area were published incorrectly.

Accordingly, pursuant to the authority delegated to me, the Beatrice, NE Class E airspace, as published in the Federal Register on Thursday, July 31, 2003, (68 FR 44875), [FR Doc. 03-19408] is corrected as follows:

§ 71.1 [Corrected]

On page 44876, Column 3, first paragraph headed, last line, change “to 7 miles south of Shaw NDB” to read “to 9.4 miles south of Shaw NDB.”

Issued in Kanasa City, MO, on August 21, 2003.
Paul J. Sheridan,
Acting Manager, Air Traffic Division, Central Region.

[FR Doc. 03-22800 Filed 9-8-03; 8:45 am]

BILLING CODE 4910-13-M